FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 12, 2007.

A. Federal Reserve Bank of Atlanta (David Tatum, Vice President) 1000 Peachtree Street, N.E., Atlanta, Georgia 30303:

1. BC Qualified Family Partnership, LLLP, Naples, Florida, to acquire shares of Marco Community Bancorp, Inc., and thereby indirectly acquire Marco Community Bank, both of Marco Island, Florida.

2. LF QFP, LLLP, Naples, Florida, to acquire shares of Marco Community Bancorp, Inc., and indirectly acquire Marco Community Bank, both of Marco Island, Florida.

B. Federal Reserve Bank of Kansas City (Donna J. Ward, Assistant Vice President) 925 Grand Avenue, Kansas City, Missouri 64198-0001:

1. Brandon J. Berkley, Denver, Colorado; Cara D. Berkley, Overland Park, Kansas; and Claudia D. Berkley, Downs, Kansas as members of the Berkley family group; to retain ownership of B Bank, Inc., and thereby indirectly retain shares of State Bank of Downs, both of Downs, Kansas.

Board of Governors of the Federal Reserve System, June 22, 2007.
Jennifer J. Johnson,
Secretary of the Board.

[FR Doc. E7-12418 Filed 6-26-07; 8:45 am]

BILLING CODE 6210-01-S